DEPARTMENT OF THE INTERIOR

Fish and Wildlife Service

Washington Maritime National Wildlife Refuge Complex, Sequim, WA

AGENCY: Fish and Wildlife Service, Interior.

ACTION: Notice of intent to prepare a comprehensive conservation plan and environmental assessment.

SUMMARY: We, the U.S. Fish and Wildlife Service (Service) intend to prepare a Comprehensive Conservation Plan and Environmental Assessment (CCP/EA) for the Protection Island and San Juan Islands National Wildlife Refuges (Refuges). The Refuges are located in Island, Jefferson, San Juan, Skagit, and Whatcom Counties, Washington. The San Juan Islands Refuge includes the San Juan Islands Wilderness Area. We are furnishing this notice to advise other agencies and the public of our intentions, and to obtain public comments, suggestions, and information on the scope of issues to be considered during the CCP and National Environmental Policy Act planning process.

DATES: Written comments on the scope of the CCP received by October 15, 2007, will be considered during development of the Draft CCP/EA.

ADDRESSES: Address comments, questions, and requests for information to: Kevin Ryan, Project Leader, Washington Maritime National Wildlife Refuge Complex, 33 South Barr Road, Port Angeles, WA 98362. Comments may be faxed to the Refuge at (360) 452-5086, or e-mailed to FW1PlanningComments@fws.gov. Include Protection Island and San Juan Islands Refuges CCP in the subject line of your message. Additional information about the CCP planning process is available on the Internet at: http://www.fws.gov/pacific/planning.

FOR FURTHER INFORMATION CONTACT: Kevin Ryan, Project Leader, Washington Maritime National Wildlife Refuge Complex, phone (360) 457-8451.

SUPPLEMENTARY INFORMATION: The National Wildlife Refuge System Administration Act of 1966, as amended by the National Wildlife Refuge System Improvement Act of 1997 (16 U.S.C. 668dd-668ee), requires all lands within the National Wildlife Refuge System to be managed in accordance with an approved CCP. A CCP guides refuge management decisions, and identifies long-range goals, objectives, and strategies for achieving the purposes for which the refuge was established. During the CCP planning process many elements will be considered, including wildlife and habitat protection and management, public use opportunities, and cultural resource protection. Public input during the planning process is essential. The CCP for the Protection Island and San Juan Islands Refuges will describe desired conditions for the Refuges and the long-term goals, objectives, and strategies for achieving those conditions. As part of the planning process, the Service will prepare an environmental assessment in accordance with the National Environmental Policy Act (NEPA) of 1969, as amended (42 U.S.C. 4371 et seq.)

Background

The Protection Island National Wildlife Refuge Act was enacted in 1982 (Pub L. 97-333), authorizing creation of the 316-acre Refuge located near the mouth of Discovery Bay on the southeast side of the Strait of Juan de Fuca. The purposes of the Protection Island Refuge are to provide habitat for a broad diversity of bird species, with particular emphasis on protecting the nesting habitat of the bald eagle, tufted puffin, rhinoceros auklet, pigeon guillemot, and pelagic cormorant; protecting harbor seals' hauling-out areas; and providing for scientific research and wildlife-oriented public education and interpretation. Refuge habitats include grass and shrublands, a small woodland area, shoreline, spits, and sandy bluffs. Most of the breeding seabird population of Puget Sound and the Strait of Juan de Fuca nests on Protection Island. The island is a major resting and breeding site for harbor seals, and also supports a small number of breeding elephant seals. Additional information concerning Protection Island NWR is available at: http://www.fws.gov/pacific/refuges/field/wa_protectionis.htm.

Located in the northwest corner of Washington State between southern Canada and the United States mainland, the San Juan Islands Refuge has a long establishment history. Executive Order 1959 established the Smith Island Reservation in 1914, as a preserve, breeding ground, and winter sanctuary for native birds. Subsequent executive orders and public land orders through 1983 culminated in the current configuration of the Refuge, which totals approximately 454 acres of islands, rocks, and reefs. Habitats include remnant prairies, cliff faces, shorelines, and old growth forest. San Juan Islands Refuge provides important breeding, resting, and foraging habitat for sensitive marine bird and mammal species. The islands of this refuge are part of the San Juan Islands Wilderness, except for Smith, Minor, and Turn Island, and a 5-acre parcel on Matia Island. The provisions of the Wilderness Act apply to all refuge lands that are designated wilderness. Additional information concerning San Juan Islands Refuge is available at: http://www.fws.gov/pacific/refuges/field/wa_sanjuanis.htm.

Preliminary Issues, Concerns, and Opportunities

The following broad categories of preliminary issues have been identified by the Service for consideration in the planning process: Threats to Refuge resources; Refuge buffers; habitat restoration; wilderness management on San Juan Islands Refuge; research opportunities; visitor services; and refuge administration. Additional issues may be identified during public scoping. The CCP will focus on ways of minimizing threats to the Refuges' resources and visitor services programs will be evaluated based on current Service policies. A revised wilderness stewardship plan for the San Juan Islands Wilderness will be included in the CCP as well.

Public Availability of Comments

All comments received from individuals become part of the official public record. Requests for such comments will be handled in accordance with the Freedom of Information Act, NEPA, and Service and Department of the Interior policies and procedures.

Before including your address, phone number, e-mail address, or other personal identifying information in your comment, you should be aware that your entire comment—including your personal identifying information—may be made publicly available at any time. While you can ask us in your comment to withhold your personal identifying information from public review, we cannot guarantee we will be able to do so.

Dated: July 17, 2007.
David J. Wesley,
Acting Regional Director, Region 1, Portland, Oregon.

[FR Doc. E7-15882 Filed 8-13-07; 8:45 am]

BILLING CODE 4310-55-P